DEPARTMENT OF AGRICULTURE

Forest Service

Gifford Pinchot Resource Advisory Committee

AGENCY: Forest Service, USDA.

ACTION: Notice of meeting.

SUMMARY: The Gifford Pinchot Resource Advisory Committee (RAC) will hold two public meetings according to the details shown below. The committee is authorized under the Secure Rural Schools and Community Self-Determination Act (the Act) and operates in compliance with the Federal Advisory Committee Act (FACA). The purpose of the committee is to improve collaborative relationships and to provide advice and recommendations to the Forest Service concerning projects and funding consistent with title II of the Act, as well as make recommendations on recreation fee proposals for sites on the Gifford Pinchot National Forest, consistent with the Federal Lands Recreation Enhancement Act. General information and meeting details can be found at the following website: https://www.fs.usda.gov/main/giffordpinchot/workingtogether/advisorycommittees.

DATES: The Recreation Fee Proposal meeting will be held on March 9, 2023, 8:30 a.m.-12 p.m. Pacific Standard Time. The SRS/Title II meeting will be held on March 10, 2023, 9:30 a.m.-3:30 p.m. Pacific Standard Time. All RAC meetings are subject to cancellation. For status of the meeting prior to attendance, please contact the person listed under FOR FURTHER INFORMATION CONTACT.

Oral Comments: Individuals wishing to make an oral statement at any of the meetings should make a request in writing by March 6, 2023 to be scheduled on the agenda for that particular meeting.

Written Comments: Anyone who would like to bring related matters to the attention of the committee may file written statements with the committee staff before or by March 31, 2023.

ADDRESSES: The Recreation Fee Proposal RAC meeting is open to the public and will be held virtually via telephone and/or video conference. Virtual meeting participation details can be found on the website listed under SUMMARY or by contacting the person listed under FOR FURTHER INFORMATION CONTACT.

The SRS/Title II RAC meeting is open to the public and will be held at the Gifford Pinchot National Forest Headquarters, located at 987 McClellan Rd., Vancouver, Washington 98661. The public may also join virtually via telephone and/or video conference. Virtual meeting participation details can be found on the website listed under SUMMARY or by contacting the person listed under FOR FURTHER INFORMATION CONTACT.

Written comments may be submitted as described under SUPPLEMENTARY INFORMATION. All comments, including names and addresses when provided, are placed in the record and are available for public inspection and copying. The public may inspect comments received upon request.

FOR FURTHER INFORMATION CONTACT: Gala Miller, Designated Federal Officer (DFO), by phone at 360-891-5014 or email at gala.miller@usda.gov. Individuals who use telecommunication devices for the deaf and hard of hearing (TDD) may call the Federal Relay Service (FRS) at 800-877-8339, 24 hours a day, every day of the year, including holidays.

SUPPLEMENTARY INFORMATION: The purpose of the SRS/Title II meeting is to:

1. Elect a Chairperson;

2. Hear from Title II project proponents and discuss Title II project proposals;

3. Make funding recommendations on Title II projects;

4. Approve meeting minutes.

The purpose of the Recreation Fee Proposal meeting is to:

1. Discuss the proposed Gifford Pinchot Recreation Fee Proposal;

2. Make recommendations on recreation fee proposals;

3. Approve meeting minutes.

The meetings are open to the public. The agendas will include time for individuals to make oral statements of three minutes or less. Individuals wishing to make an oral statement at any of the meetings should make a request in writing by March 6, 2023 to be scheduled on the agenda for that particular meeting. Anyone who would like to bring related matters to the attention of the committee may file written statements with the committee staff before or by March 31, 2023.

Written comments and requests for time for oral comments must be sent to Gala Miller, Gifford Pinchot National Forest Headquarters, 987 McClellan Rd., Vancouver, WA 98661; or by email to gala.miller@usda.gov. Persons with disabilities who require alternative means of communication for program information (e.g., Braille, large print, audiotape, American Sign Language, etc.) should contact the responsible Agency or USDA's TARGET Center at 202-720-2600 (voice and TTY) or contact USDA through the Federal Relay Service at 800-877-8339. Additionally, program information may be made available in languages other than English.

USDA programs are prohibited from discriminating based on race, color, national origin, religion, sex, gender identity (including gender expression), sexual orientation, disability, age, marital status, family/parental status, income derived from a public assistance program, political beliefs, or reprisal or retaliation for prior civil rights activity, in any program or activity conducted or funded by USDA (not all bases apply to all programs). Remedies and complaint filing deadlines vary by program or incident.

Equal opportunity practices in accordance with USDA's policies will be followed in all appointments to the Committee. To ensure that the recommendations of the Committee have taken in account the needs of the diverse groups served by USDA, membership shall include to the extent possible, individuals with demonstrated ability to represent minorities, women, and person with disabilities. USDA is an equal opportunity provider, employer, and lender.

Dated: February 15, 2023.
Cikena Reid,
USDA Committee Management Officer.

[FR Doc. 2023-03660 Filed 2-21-23; 8:45 am]

BILLING CODE 3411-15-P